DEPARTMENT OF COMMERCE

National Oceanic and Atmospheric Administration

RIN 0648-XC424

Endangered and Threatened Species; Take of Anadromous Fish

AGENCY: National Marine Fisheries Service (NMFS), National Oceanic and Atmospheric Administration (NOAA), Commerce.

ACTION: Notice of receipt of a scientific purposes and Enhancement of survival permit application and Hatchery and Genetic Management Plan (HGMP); notice of availability of draft environmental assessment (EA).

SUMMARY: Notice is hereby given that NMFS has received an application for a permit for scientific purposes and to enhance the propagation and survival of a listed species under the Endangered Species Act of 1973, as amended (ESA), from the California Department of Fish and Game (CDFG) and PacifiCorp for a 10 year period. As part of this permit application, the CDFG has submitted a draft HGMP. The HGMP specifies methods for the operation of the Iron Gate hatchery coho salmon program, located along the Klamath River, within the State of California. This document serves to notify the public of the availability of the permit application and HGMP for public review and comment prior to a decision by NMFS whether to issue the permit.

This notice also announces the availability for public review and comment of a Draft Environmental Assessment (EA) regarding issuance of the permit, which involves take of coho salmon listed as threatened under the ESA.

DATES: Written comments on the permit application, draft HGMP, and draft EA must be received at the appropriate address or fax number (see ADDRESSES) no later than 5 p.m. Pacific standard time on February 7, 2013.

ADDRESSES: Written comments on the application, draft HGMP or draft EA should be submitted to Jim Simondet, Klamath Branch Supervisor, NMFS Northern California Office, 1655 Heindon Rd, Arcata, California 95521. Comments may also be submitted via fax (707) 825-4840, or you may transmit your comment as an attachment to the following email address: IronGateHGMP.SWR@noaa.gov.

Copies of the draft EA and HGMP are available for public review during regular business hours from 9:00 a.m. to 5 p.m. at the NMFS Arcata office, 1655 Heindon Road, Arcata, CA 95521, (707) 825-5171. The permit application may be viewed online at: https://apps.nmfs.noaa.gov/preview/preview_open_for_comment.cfm.

FOR FURTHER INFORMATION CONTACT: Jim Simondet, Klamath Branch Supervisor, NMFS, telephone (707) 825-5171, email: jim.simondet@noaa.gov.

SUPPLEMENTARY INFORMATION:

Background

Section 9 of the ESA (16 U.S.C. 1538) and Federal regulations prohibit the take of fish or wildlife species listed as endangered or threatened. The term “take” is defined under the ESA to mean to harass, harm, pursue, hunt, shoot, wound, kill, trap, capture, or collect, or to attempt to engage in any such conduct (16 U.S.C. 1532(19)). NMFS may issue permits to take listed species for scientific purposes or to enhance the propagation or survival of the affected species under section 10(a)(1)(A) of the ESA (16 U.S.C. 1539(a)(1)(A)). NMFS regulations governing such permits are found at 50 CFR 222.308.

The CDFG and PacifiCorp have applied for a permit under section 10(a)(1)(A) of the ESA for a period of 10 years that would allow CDFG to take adult and juvenile coho salmon in the threatened Southern Oregon/Northern California Coast Evolutionarily Significant Unit pursuant to a HGMP, which was developed with technical assistance from NMFS. The HGMP will be implemented as part of the existing coho salmon artificial propagation program at Iron Gate Hatchery. Actions taken pursuant to the permit are designed to enhance the survival of coho salmon residing in the Upper Klamath River below Iron Gate Dam.

The HGMP incorporates two main components: Artificial propagation and monitoring and evaluation (M&E). Artificial propagation activities that could lead to the take of listed coho salmon include: Adult broodstock collection, spawning, rearing, handling, evaluation, tagging and release of progeny. The HGMP includes measures to increase the fertilization of eggs and survival rate for each life stage and to minimize the likelihood of genetic or ecological effects to listed natural fish resulting from the hatchery operations and propagation of hatchery fish.

Monitoring and evaluation will occur by conducting coho spawning ground and carcass surveys in the mainstem Klamath River and tributaries that comprise habitat for the Upper Klamath River coho salmon population unit. These data will be used to estimate adult natural and hatchery escapement levels and spawn timing to each stream for the Upper Klamath population unit as a whole. M&E activities will also collect necessary data to document achievement of performance indicators specified in the HGMP. For a more detailed discussion of the project please see the permit application package.

National Environmental Policy Act Compliance

Proposed permit issuance triggers the need for compliance with the National Environmental Policy Act (NEPA). NMFS has prepared a draft EA which evaluates the impacts of the proposed issuance of the permit and implementation of the HGMP, as well as the No Action Alternative in which the permit would not be issued and the HGMP may not be fully implemented.

Public Comments Solicited

NMFS invites the public to comment on the permit application, draft HGMP, and draft EA during a 30 day public comment period beginning on the date of this notice. All comments and materials received, including names and addresses, will become part of the administrative record and may be released to the public. This notice is provided pursuant to section 10(c) of the ESA (16 U.S.C. 1529(c)) and regulations for implementing NEPA (40 CFR 1506.6). We provide this notice in order to allow the public, agencies, or other organizations to review and comment on these documents.

Next Steps

NMFS will evaluate the application, associated documents, and comments submitted to determine whether the application meets the requirements of section 10(a)(1)(A) of the ESA and Federal regulations. The final permit decisions will not be made until after the end of the 30-day comment period and after NMFS has fully considered all relevant comments received during the comment period. NMFS will publish notice of its final action in the Federal Register.

Angela Somma,
Chief, Endangered Species Division, Office of Protected Resources, National Marine Fisheries Service.

[FR Doc. 2013-00137 Filed 1-7-13; 8:45 am]

BILLING CODE 3510-22-P